DEPARTMENT OF ENERGY

Federal Energy Regulatory Commission

[Docket Nos. CP13-492-000 and PF12-17-000]

Pacific Connector Gas Pipeline, LP; Notice of Application

Take notice that on June 6, 2013, Pacific Connector Gas Pipeline, LP (Pacific Connector), 295 Chipeta Way, Salt Lake City, Utah 84108, filed in Docket No. CP13-492-000 an application under section 7 of the Natural Gas Act (NGA) and Part 157 of the Commission's regulations, seeking a certificate of public convenience and necessity: (i) Authorizing the construction and operation of the Pacific Connector Gas Pipeline (Pacific Connector Pipeline); (ii) approving the Pacific Connector Pipeline's pro forma Tariff; (iii) approving the initial rates for the Pacific Connector Pipeline; and iv) approving its proposed treatment of accounting issues. Pacific Connector also seeks issuance of blanket certificates under Part 157, Subpart F and under Part 284, Subpart G of the Commission's regulations, authorizing Pacific Connector to engage in certain self-implementing routine construction activities, and to transport natural gas on an open access and self-implementing basis, respectively, all as more fully set forth in the application which is on file with the Commission and open to public inspection. Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

The Pacific Connector Pipeline would be capable of delivering up to 1,060,000 Dekatherms per day of natural gas to the Jordan Cove LNG Export Terminal being developed by Jordan Cove Energy Project, L.P. that separately filed an application with the Commission for its proposal in Docket No. CP13-483-000 on May 21, 2013. Questions regarding this application should be directed to Pam Barnes, Project Manager—Certificates, 295 Chipeta Way, Salt Lake City, Utah 84108, or by telephone at 801-584-6857.

On June 8, 2012, the Commission staff granted Jordan Cove's request to utilize the Pre-Filing Process and assigned Docket No. PF12-17 to staff activities involved with Pacific Connector's project. Now, as of the filing of the application on June 6, 2013, the Pre-Filing Process for this project has ended. From this time forward, this proceeding will be conducted in Docket No. CP13-492-000, as noted in the caption of this Notice.

Because the Pacific Connector Pipeline is a necessary part of the Jordan Cove LNG Export Terminal, the Commission will prepare a single Environmental Impact Statement (EIS) addressing both projects in order to comply with the National Environmental Policy Act (NEPA) of 1969. Pursuant to section 157.9 of the Commission's rules, 18 CFR 157.9, and to ensure compliance with the NEPA, 42 U.S.C. 4321-4347, the Commission staff will issue a Notice of Schedule for Environmental Review within 90 days of the date of this Notice. The Notice of Schedule for Environmental Review will indicate, among other milestones, the anticipated date for the Commission staff's issuance of the final EIS for the proposal. The Notice will also alert other agencies of the requirement to complete necessary reviews and authorizations within 90 days of the date of issuance of the Commission staff's final EIS.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link.

Persons unable to file electronically should submit an original and 5 copies of the protest or intervention to the Federal Energy Regulatory Commission, 888 First Street NE., Washington, DC 20426.

Comment Date: 5:00 p.m. Eastern Time on July 10, 2013

Dated: June 19, 2013.
Kimberly D. Bose,
Secretary.

[FR Doc. 2013-15187 Filed 6-25-13; 8:45 am]

BILLING CODE 6717-01-P